DEPARTMENT OF ENERGY

Federal Energy Regulatory Commission

[Docket No. AD21-13-000]

Climate Change, Extreme Weather, and Electric System Reliability; Notice of Technical Conference

Take notice that Federal Energy Regulatory Commission (Commission) staff will convene a technical conference to discuss issues surrounding the threat to electric system reliability posed by climate change and extreme weather events. Commissioners may attend and participate in the technical conference.

Reliable electric service is vital to the nation's economy, national security, and public health and safety, and prolonged power outages can have significant humanitarian consequences, as the nation recently witnessed in Texas and the south-central United States. This technical conference will address concerns that because extreme weather events are increasing in frequency,¹ intensity, geographic expanse, and duration, the number and severity of weather-induced events in the electric power industry may also increase.²

¹ According to a recent report from the National Oceanic and Atmospheric Administration, extreme weather events topping $1 billion in estimated damages and costs are occurring with increasing frequency. NOAA National Centers for Environmental Information (NCEI) U.S. Billion-Dollar Weather and Climate Disasters (2021). https://www.ncdc.noaa.gov/billions/, https://www.doi.org/10.25921/stkw-7w73.

² See, e.g., Quadrennial Energy Review, Transforming the Nation's Electricity System: The Second Installment of the QER, January 2017 at 4-2 (“The leading cause of power outages in the United States is extreme weather, including heat waves, blizzards, thunderstorms, and hurricanes. Events with severe consequences are becoming more frequent and intense due to climate change, and these events have been the principal contributors to an observed increase in the frequency and duration of power outages in the United States.”).

This technical conference will also address the specific challenges posed to electric system reliability by climate change and extreme weather, which may vary by region. For example, addressing the reliability challenges associated with wildfires may not be appropriate in a region where a different challenge, such as weather-driven fuel supply interruptions, is more likely to occur.

Through this proceeding in Docket No. AD21-13-000, the Commission seeks to understand the near, medium and long-term challenges facing the regions of the country; how decisionmakers in the regions are evaluating and addressing those challenges; and whether further action from the Commission is needed to help achieve an electric system that can withstand, respond to, and recover from extreme weather events.

The technical conference will be held on the afternoons of Tuesday, June 1, 2021 and Wednesday, June 2, 2021 from approximately 1 p.m. to 5:00 p.m. Eastern Time each day. The technical conference will be held via teleconference (over WebEx) and will be open to the public. Registration for the conference is not required and there is no fee for attendance. A supplemental notice will be issued seeking comments prior to the technical conference. Following comment submissions, an additional supplemental notice will be issued with further details regarding the technical conference agenda, as well as any changes in timing or logistics. Information will also be posted on the Calendar of Events on the Commission's website, www.ferc.gov, prior to the event. The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

Individuals interested in participating as panelists should self-nominate through the WebEx registration form by 5:00 p.m. Eastern Time on Wednesday, April 7, 2021 at: https://ferc.webex.com/ferc/onstage/g.php?MTID=eff91ed43b5be08b7808828631394b5c5.

For more information about this technical conference, please contact Rahim Amerkhail, 202-502-8266, rahim.amerkhail@ferc.gov for technical questions or Sarah McKinley, 202-502-8368, sarah.mckinley@ferc.gov for logistical issues.

Dated: March 5, 2021.
Kimberly D. Bose,
Secretary.

[FR Doc. 2021-05067 Filed 3-10-21; 8:45 am]

BILLING CODE 6717-01-P